GENERAL SERVICES ADMINISTRATION

[Notice-CX-2017-01; Docket No. 2017-0002; Sequence 18]

Office of Human Resources Management; SES Performance Review Board

AGENCY: Office of Human Resources Management (OHRM), General Services Administration (GSA).

ACTION: Notice.

SUMMARY: Notice is hereby given of the appointment of new members to the General Services Administration Senior Executive Service Performance Review Board. The Performance Review Board assures consistency, stability, and objectivity in the performance appraisal process.

DATES: Applicable: October 23, 2017.

FOR FURTHER INFORMATION CONTACT: Ms. Shonna James, Director, Executive Resources Division, Office of Human Resources Management, General Services Administration, 1800 F Street NW., Washington, DC 20405, 202-230-7005.

SUPPLEMENTARY INFORMATION: Section 4314(c)(1) through (5) of title 5 U.S.C requires each agency to establish, in accordance with regulation prescribed by the Office of Personnel Management, one or more SES performance review board(s).

The board is responsible for making recommendations to the appointing and awarding authority on the performance appraisal ratings and performance awards for the Senior Executive Service employees.

The following have been designated as members of the Performance Review Board of GSA:

• Anthony Costa, Acting Deputy Administrator, Office of the Administrator—Chair.

• Antonia Harris, Chief Human Capital Officer, Office of Human Resources Management.

• Allison Brigati, Associate Administrator for Government-wide Policy, Office of Government-Wide Policy.

• Alan Thomas Jr., Commissioner, Federal Acquisition Service.

• Mary Davie, Deputy Commissioner, Federal Acquisition Service.

• Daniel Mathews, Commissioner, Public Buildings Service.

• Michael Gelber, Deputy Commissioner, Public Buildings Service.

• Giancarlo Brizzi, Principal Deputy Associate Administrator for Government-wide Policy, Office of Government-Wide Policy.

• Joanna Rosato, Regional Commissioner, Public Buildings Service, Mid-Atlantic Region.

• Kim Brown, Regional Commissioner, Federal Acquisition Service, Great Lakes Region.

Dated: October 17, 2017.
Timothy O. Horne,
Acting Administrator, General Services Administration.

[FR Doc. 2017-22960 Filed 10-20-17; 8:45 am]

BILLING CODE 6820-FM-P